DEPARTMENT OF THE INTERIOR

National Park Service

National Register of Historic Places; Notification of Pending Nominations and Related Actions

Nominations for the following properties being considered for listing or related actions in the National Register were received by the National Park Service before December 22, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by January 28, 2008.

J. Paul Loether, Chief,
National Register of Historic Places/National Historic Landmarks Program.

ARIZONA

Pima County

Curley School, 201 Esperanza School, Ajo, 07001464.

ARKANSAS

Conway County

Little Rock to Cantonment Gibson Road—Old Wire Road Segment, (Cherokee Trail of Tears MPS), Address Restricted, Blackwell, 07001465.

Pulaski County

Hanger Hill Historic District, 1500 Blk. of Welch St., Little Rock, 07001466.

CALIFORNIA

Contra Costa County

Martinez City Library, 740 Court St., Martinez, 07001467.

San Diego County

Felicita County Park Prehistoric Village Site, Address Restricted, Escondido, 07001470.

San Francisco County

Coit Memorial Tower, 1 Telegraph Hill Blvd., San Francisco, 07001468.

Colombo Building, 1-21 Colombus Avenue, San Francisco, 07001469.

COLORADO

Boulder County

Sandbeach Lake Trail, (Rocky Mountain National Park MPS), S. of Lookout Mt., Meeker Park, 07001471.

Thunder Lake Trail—Bluebird Lake Trail, (Rocky Mountain National Park MPS), Roughly along N. St. Vrain Cr., W. of Wild Basin Ranger Stn., Allens Park, 07001472.

Larimer County

Gem Lake Trail, (Rocky Mountain National Park MPS), N. of Devils Gulch Rd. to Gem Lake, Estes Park, 07001473.

ILLINOIS

Cook County

International Tailoring Company Building, 847 W. Jackson Blvd., Chicago, 07001474.

Kankakee County

Hunter—Hattenburg House, 825 S. Chicago Ave., Kankakee, 07001475.

Lake County

Blair, William McCormick, Estate, 982 Sheridan Rd., Lake Bluff, 07001476.

KANSAS

Cowley County

Wilmer House, 1310 E. 9th Ave., Winfield, 07001477.

Douglas County

Breezedale Historic District, (Lawrence, Kansas MPS) 2301-2401 Massachusetts St., Lawrence, 07001478.

Edwards County

Kinsley Civil War Monument, L Rd., Hillside Cemetery, Kinsley, 07001479.

Finney County

Buffalo Hotel, 111-117 Grant Ave., Garden City, 07001480.

Ford County

Burr House, 603 W. Spruce, Dodge City, 07001481.

Labette County

Parsons Katy Hospital, 400 Katy Ave., Parsons, 07001482.

Montgomery County

Hotel Dale, 206 W. 8th St., Coffeyville, 07001483.

Sedgwick County

Eagle's Lodge #132, 200-202 S. Emporia, Wichita, 07001484.

Wyandotte County

Lowell Elementary School, (Public Schools of Kansas MPS) 1040 Orville Ave., Kansas City, 07001485.

LOUISIANA

Evangeline Parish

Laran, Jean Marie, House, 619 E. Main St., Ville Platte, 07001486.

MASSACHUSETTS

Middlesex County

District 7 School, Chicopee Row, Groton, 07001487.

Worcester County

Drake, Frances H. and Jonathan, House, (Underground Railroad in Massachusetts MPS) 21 Franklin St., Leominster, 07001488.

MICHIGAN

Allegan County

HENNEPIN (self-unloading steamship), Address Restricted, South Haven, 07001489.

Presque Isle County

Presque Island Lodge, 8211 E. Grand Lake Rd., Presque Isle, 07001490.

Wayne County

Federal Reserve Bank of Chicago Detroit Branch Building, 160 W. Fort St., Detroit, 07001491.

MISSOURI

St. Louis County

Saratoga Lanes Building, 2725 Sutton Blvd., Maplewood, 07001492.

St. Louis Independent City

McBride, William Cullen, Catholic High School, 1909-1915 N Kingshighway Blvd., St. Louis (Independent City), 07001493.

MONTANA

Glacier County

Cut Bank Municipal Airport and Army Air Force Base, Valier Hwy., Cut Bank, 07001494.

NORTH CAROLINA

Beaufort County

Bath School, King & Carteret Sts., Bath, 07001495.

Davidson County

Hedrick's Grove Reformed Church, 3840 Allred Rd., Lexington, 07001496.

Hertford County

East End Historic District, Bounded by Maple St., Town boundary, Catherine Creek Rd. & Holloman Ave., Ahoskie, 07001497.

Johnston County

Shiloh Primitive Baptist Church, 9495 Brogden Rd., Brogden, 07001498.

Mecklenburg County

Home Federal Building, 139 S. Tryon St., Charlotte, 07001499.

Southern Asbestos Company Mills, 1000 Seaboard St., Charlotte, 07001500.

Orange County

Rocky Ridge Farm Historic District (Boundary Increase). Includes portion of Country Club Rd., Laurel Hill Rd. & Ledge Ln., and all of Round Hill Rd., Chapel Hill, 07001501.

Wake County

Apex Historic District (Boundary Increase II), (Wake County MPS) Roughly centered on Hunter, Center, Chatham, Cunningham, Holleman & Hughes Sts., Apex, 07001502.

Harmony Plantation, (Wake County MPS) 5104 Riley Hill Rd., Wendell, 07001504.

Holleman, Samuel Bartley, House, (Wake County MPS) 3424 Avent Ferry Rd., New Hill, 07001503.

OREGON

Clackamas County

Shipley—Cook Farmstead, 18451 SW. Stafford Rd., Lake Oswego, 07001505.

Douglas County

Baimbridge—Kanipe Farmstead Historic District, 16513 Elkhead Rd., Oakland, 07001506.

Lane County

Christian, Daniel and Catherine, House, (Residential Architecture of Eugene, Oregon MPS) 170 E. 12th Ave., Eugene, 07001507.

Creswell Public Library and Civic Improvement Club Clubhouse, 195 S. 2nd St., Creswell, 07001508.

VIRGINIA

Franklin County

Dudley, Gwin, Home Site, Twin Chimneys Dr., Wirtz, 07001509.

[FR Doc. 08-31 Filed 1-10-08; 8:45 am]

BILLING CODE 4312-51-M